DEPARTMENT OF TRANSPORTATION

Research and Special Programs Administration

49 CFR Parts 174 and 177

[Docket No. RSPA-01-8587; Notice No. 01-02]

Regulatory Flexibility Act Section 610 and Plain Language Reviews

AGENCY: Research and Special Programs Administration (RSPA), DOT.

ACTION: Notice of regulatory review; request for comments.

SUMMARY: RSPA requests comments on the economic impact of its regulations on small entities. As required by the Regulatory Flexibility Act and as published in DOT's Semi-Annual Regulatory Agenda, we are analyzing the rules on Carriage by Rail and Carriage by Public Highway to identify rules that may have a significant economic impact on a substantial number of small entities. We also request comments on ways to make these regulations easier to read and understand.

DATES: Comments must be received by April 12, 2001.

ADDRESSES: Address written comments to the Dockets Management System, U.S. Department of Transportation, Room PL-401, 400 Seventh Street, SW, Washington, DC 20590-0001. Identify the docket number RSPA-99-5143 at the beginning of your comments and submit two copies. If you want to receive confirmation of receipt of your comments, include a self-addressed, stamped postcard. You can also submit comments by e-mail by accessing the Dockets Management System on the Internet at “http://dms.dot.gov” or by fax to (202) 366-3753.

The Dockets Management System is located on the Plaza Level of the Nassif Building at the Department of Transportation at the above address. You can review public dockets there between the hours of 9 a.m. and 5 p.m., Monday through Friday, except Federal holidays. In addition, you can review comments by accessing the Dockets Management System at “http://dms.dot.gov.”

FOR FURTHER INFORMATION CONTACT: Susan Gorsky, Office of Hazardous Materials Standards, Research and Special Programs Administration, U.S. Department of Transportation, telephone (202) 366-8553; or Donna O'Berry, Office of Chief Counsel, Research and Special Programs Administration, U.S. Department of Transportation, telephone (202) 366-4400.

SUPPLEMENTARY INFORMATION:

I. Section 610 of the Regulatory Flexibility Act

A. Background and Purpose

Section 610 of the Regulatory Flexibility Act of 1980 (Public Law 96-354), as amended by the Small Business Regulatory Enforcement Fairness Act of 1996 (Public Law 104-121), requires agencies to conduct periodic reviews of rules that have a significant economic impact on a substantial number of small business entities. The purpose of the review is to determine whether such rules should be continued without change, amended, or rescinded, consistent with the objectives of applicable statutes, to minimize any significant economic impact of the rules on a substantial number of such small entities.

B. Review Schedule

The Department of Transportation (DOT) published its Semiannual Regulatory Agenda on November 30, 2000, listing in Appendix D (65 FR 74138) those regulations that each operating administration will review under section 610 during the next 12 months. Appendix D also contains DOT's 10-year review plan for all of its existing regulations.

The Research and Special Programs Administration (RSPA, we) has divided its Hazardous Materials Regulations (HMR; 49 CFR Parts 171-180) into 10 groups by subject area. Each group will be reviewed once every 10 years, undergoing a two-stage process—an Analysis Year and Section 610 Review Year. For purposes of these reviews, a year will coincide with the fall-to-fall publication schedule of the Semiannual Regulatory Agenda. Thus, Year 1 began in the fall of 1998 and ended in the fall of 1999; Year 2 began in the fall of 1999 and ended in the fall of 2000; and so on.

During the Analysis Year, we will analyze each of the rules in a given year's group to determine whether any rule has a significant impact on a substantial number of small entities and, thus, requires review in accordance with section 610 of the Regulatory Flexibility Act. In each fall's Regulatory Agenda, we will publish the results of the analyses we completed during the previous year. For rules that have a negative finding, we will provide a short explanation. For parts, subparts, or other discrete sections of rules that do have a significant impact on a substantial number of small entities, we will announce that we will be conducting a formal section 610 review during the following 12 months.

The section 610 review will determine whether a specific rule should be revised or revoked to lessen its impact on small entities. We will consider: (1) the continued need for the rule; (2) the nature of complaints or comments received from the public; (3) the complexity of the rule; (4) the extent to which the rule overlaps, duplicates, or conflicts with other federal rules or with state or local government rules; and (5) the length of time since the rule has been evaluated or the degree to which technology, economic conditions, or other factors have changed in the area affected by the rule. At the end of the Review Year, we will publish the results of our review.

The following table shows the 10-year analysis and review schedule:

RSPA Section 610 Review Plan
[1999-2009]
Title | Regulation | Analysis year | Review year
Incident reports | §§ 171.15 and 171.16 | 1998 | N/A
Hazmat safety procedures | Parts 106 and 107 | 1999 | N/A
General Information, Regulations, and Definitions | Part 171 |  |
Carriage by Rail and Highway | Parts 174 and 177 | 2000 | 2001
Carriage by Vessel | Part 176 | 2001 | 2002
Radioactive Materials | Parts 172, 173, 174, 175, 176, 178 | 2002 | 2003
Explosives | Parts 172, 173, 174, 176, 178 | 2003 | 2004
Cylinders | Parts 172, 173, 178, 180 |  |
Shippers—General Requirements for Shipments and Packagings | Part 173 | 2004 | 2005
Specifications for Non-bulk Packagings | Part 178 | 2005 | 2006
Specifications for Bulk Packagings | Parts 178, 179, 180 | 2006 | 2007
Hazardous Materials Table, Special Provisions, Hazardous Materials Communications, Emergency Response Information, and Training Requirements | Part 172 | 2007 | 2008
Carriage by Aircraft | Part 175 |  |

C. Regulations Under Analysis

During Year 3 (2000-2001), the Analysis Year, we will conduct a preliminary assessment of the rules in 49 CFR Part 174, Carriage by Rail, and Part 177, Carriage by Public Highway.

Part 174, Carriage by Rail, includes the following subparts:

Subpart | Title
Subpart A | General Requirements.
Subpart B | General Operating Requirements.
Subpart C | General Handling and Loading Requirements.
Subpart D | Handling of Placarded Rail Cars, Transport Vehicles, and Freight Containers.
Subpart E | Class 1 (Explosive) Materials.
Subpart F | Detailed Requirements for Class 2 (Gases) Materials.
Subpart G | Detailed Requirements for Class 3 (Flammable Liquid) Materials.
Subpart J | Detailed Requirements for Division 6.1 (Poisonous) Materials.
Subpart K | Detailed Requirements for Class 7 (Radioactive) Materials.

Part 177, Carriage by Public Highway, includes the following subparts:

Subpart | Title
Subpart A | General Information and Regulations.
Subpart B | Loading and Unloading.
Subpart C | Segregation and Separation Chart of Hazardous Materials.
Subpart D | Vehicles and Shipments in Transit; Accidents.
Subpart E | Regulations Applying to Hazardous Material on Motor Vehicles Carrying Passengers for Hire.

We are seeking comments on whether any requirements in Parts 174 or 177 have a significant impact on a substantial number of small entities. “Small entities” include small businesses, not-for-profit organizations that are independently owned and operated and are not dominant in their fields, and governmental jurisdictions with populations under 50,000. If your business or organization is a small entity and if any of the requirements in Parts 174 or 177 has a significant economic impact on your business or organization, please submit a comment explaining how and to what degree these rules affect you, the extent of the economic impact on your business or organization, and why you believe the economic impact is significant.

II. Plain Language

A. Background and Purpose

The National Partnership for Reinventing Government (NPR) has recommended that the federal government develop a more customer-oriented approach, particularly concerning government regulations and publications. The NPR recommendations suggest that agencies simplify and, as appropriate, rewrite rules and regulations in performance-based, plain-language formats.

Plain language helps readers find requirements quickly and understand them easily. Examples of plain language techniques include:

(1) Undesignated center headings to cluster related sections within subparts.

(2) Short words, sentences, paragraphs, and sections to speed up reading and enhance understanding.

(3) Sections as questions and answers to provide focus.

(4) Personal pronouns to reduce passive voice and draw readers into the writing.

(5) Tables to display complex information in a simple, easy-to-read format.

President Clinton issued an Executive Memorandum on June 1, 1998, calling for agencies to write documents using “easy-to-read design features.” To ensure the use of plain language, the President directed agencies to use plain language in all new documents, other than regulations, by October 1, 1998, and to use plain language in all proposed and final rulemakings published in the Federal Register after January 1, 1999. The President also directed agencies to consider rewriting existing regulations in plain language when they have the opportunity and resources to do so. For an example of a rule drafted in plain language, you can refer to RSPA's notice of proposed rulemaking entitled “Revised and Clarified Hazardous Materials Safety Rulemaking and Program Procedures,” which was published December 11, 1998 (63 FR 68624). This NPRM proposed to rewrite 49 CFR Part 106 and Subpart A of Part 107 in plain language and to create a new Part 105 that would contain definitions and general procedures. We are currently evaluating comments received in response to the NPRM.

B. Review Schedule

In conjunction with our section 610 reviews, we will be performing plain language reviews of the HMR over a ten-year period on a schedule consistent with the section 610 review schedule. Thus, our review of Parts 174 and 177 will also include a plain language review to determine if the regulations can be reorganized and/or rewritten to make them easier to read, understand, and use. We are also considering a petition for rulemaking jointly filed by the Association of American Railroads and the American Trucking Associations (P-1355) proposing that we consolidate the requirements of Parts 174 and 177 into a new Part 174. The petition further proposes to delete certain requirements in Parts 174 and 177 that are obsolete, duplicative, or do not “add to the safe transportation of hazardous materials.” We encourage interested persons to submit draft regulatory language that clearly and simply communicates regulatory requirements, and other recommendations, such as for putting information in tables or consolidating regulatory requirements, that may make the regulations easier to use.

Issued in Washington, D.C. on January 5, 2001, under authority delegated in 49 CFR Part 106.
Robert A. McGuire,
Associate Administrator for Hazardous Materials Safety, Research and Special Programs Administration.

[FR Doc. 01-993 Filed 1-11-01; 8:45 am]

BILLING CODE 4910-60-P